DEPARTMENT OF TRANSPORTATION

Federal Highway Administration

Notice of Final Federal Agency Actions on Proposed Highway in California

AGENCY: Federal Highway Administration (FHWA), DOT.

ACTION: Notice of Limitation on Claims for Judicial Review of Actions by the California Department of Transportation (Caltrans), pursuant to 23 USC 327, and Other Federal Agencies.

SUMMARY: The FHWA, on behalf of Caltrans, is issuing this notice to announce actions taken by Caltrans, and other Federal agencies, that are final within the meaning of 23 U.S.C. 139(l)(1). The actions relate to proposed roadway improvements in mid-Solano County between Interstate 80 (I-80) in Vacaville in the north and State Route 12 (SR12) in Suisun City in the south, in the County of Solano, State of California. Those actions grant licenses, permits, and approvals for the project.

DATES: By this notice, the FHWA, on behalf of Caltrans, is advising the public of final agency actions subject to 23 U.S.C. 139(l)(1). A claim seeking judicial review of the Federal agency actions on the roadway project will be barred unless the claim is filed on or before January 29, 2012. If the Federal law that authorizes judicial review of a claim provides a time period of less than 180 days for filing such claim, then that shorter time period still applies.

FOR FURTHER INFORMATION CONTACT: For Caltrans: Melanie Brent, Office Chief, Office of Environmental Analysis, Caltrans District 4, 111 Grand Avenue, MS 8B, Oakland, CA 94612, (510) 286-5231, Melanie_Brent@dot.ca.gov.

SUPPLEMENTARY INFORMATION: Effective July 1, 2007, the Federal Highway Administration (FHWA) assigned, and the California Department of Transportation (Caltrans) assumed, environmental responsibilities for this project pursuant to 23 U.S.C. 327. Notice is hereby given that the Caltrans has taken final agency actions subject to 23 U.S.C. 139(l)(1) by issuing licenses, permits, and approvals for the following roadway project in the State of California: Roadway Improvements within the 12-mile corridor referred to as the Jepson Corridor in Solano County, California. The purposes of the project is to provide a safe, convenient route for local traffic in this portion of Solano County, while providing opportunities for multimodal use and unifying landscape and design features to enhance aesthetics and character of the adjoining communities. It would upgrade and link a series of existing local two- and four-lane roadways to provide a four- to six-lane north-south travel route for residents who face increasing congestion when traveling between jurisdictions in central Solano County. The actions by the Federal agencies, and the laws under which such actions were taken, are described in the Final Environmental Impact Statement (FEIS) for the project, approved on May 12, 2011, in the FHWA Record of Decision (ROD) issued on June 21, 2011, and in other documents in the FHWA project records. The FEIS, ROD, and other project records are available by contacting Caltrans at the addresses provided above. The Caltrans FEIS and ROD can be viewed and downloaded from the project Web site at http://www.dot.ca.gov/dist4/envdocs.htm.

This notice applies to all Federal agency decisions as of the issuance date of this notice and all laws under which such actions were taken, including but not limited to:

1. National Environmental Policy Act (NEPA) [42 U.S.C. 4321-4351]; Federal-Aid Highway Act [23 U.S.C. 109] and its regulations 23 CFR 772

2. Farmland Protection Policy Act (FPPA) [7 U.S.C. 4201-4209] and its regulations, 7 CFR Ch. VI part 658

3. Antiquities Act of 1906 [16 U.S.C. 431-433]; Federal-Aid Highway Act of 1935 [20 U.S.C. 78]

4. Clean Air Act [42 U.S.C. 7401-7671(q)]

5. U.S. Fish and Wildlife Service (USFWS) mitigation policy for California's riparian habitats in Resource Category 2 (46 FR 7644)

6. Clean Water Act [33 U.S.C. 1344]

7. Federal Endangered Species Act (FESA0 [16 U.S.C. 1531] and its regulations, 50 CFR part 402

8. Migratory Bird Treaty Act [16 U.S.C. 703-712]

9. Section 106 of the National Historic Preservation Act of 1966, as amended [16 U.S.C. 470(aa)-11]

10. Comprehensive Environmental Response, Compensation, and Liability Act (CERCLA) [42 USC 9601-9675]; Resource Conservation and Recovery Act of 1976 (RCRA)

11. E.O. 11988 Floodplain Management; E.O. 11990 Protection of Wetlands. (Catalog of Federal Domestic Assistance Program Number 20.205, Highway Planning and Construction. The regulations implementing Executive Order 12372 regarding intergovernmental consultation on Federal programs and activities apply to this program.)

Authority: 23 U.S.C. 139(l)(1).

Issued on: July 26, 2011.
Gary Sweeten,
North Team Leader, Local Programs, Federal Highway Administration, Sacramento, California.

[FR Doc. 2011-19540 Filed 8-1-11; 8:45 am]

BILLING CODE 4910-RY-P